DEPARTMENT OF COMMERCE

National Oceanic and Atmospheric Administration

RIN 0648-XF840

North Pacific Fishery Management Council; Public Meeting

AGENCY: National Marine Fisheries Service (NMFS), National Oceanic and Atmospheric Administration (NOAA), Commerce.

ACTION: Notice of public meetings.

SUMMARY: The North Pacific Fishery Management Council (Council) and its advisory committees will meet in December in Anchorage, AK.

DATES: The Council will hold meetings from Monday, December 4 through Tuesday, December 12, 2017. See SUPPLEMENTARY INFORMATION for specific dates and times.

ADDRESSES: The meeting will be held at the Anchorage Hilton Hotel, 500 W. 3rd Ave, Anchorage, AK 99501.

Council address: North Pacific Fishery Management Council, 605 W. 4th Ave., Suite 306, Anchorage, AK 99501-2252; telephone: (907) 271-2809.

FOR FURTHER INFORMATION CONTACT: Diana Evans, Council staff; telephone: (907) 271-2809.

SUPPLEMENTARY INFORMATION: The Council will begin its plenary session at 8 a.m. in the Aleutian Room on Wednesday, December 6, continuing through Tuesday, December 12, 2017. The Scientific and Statistical Committee (SSC) will begin at 8 a.m. in the King Salmon/Iliamna Room on Monday, December 4 and continue through Wednesday, December 6, 2017. The Council's Advisory Panel (AP) will begin at 8 a.m. in the Dillingham/Katmai Room on Tuesday, December 5, and continue through Saturday, December 9, 2017. The Halibut Charter Management Committee will meet Monday, December 4, from 9 a.m. to 4 p.m. (Room TBD). The Legislative Committee will meet Tuesday, December 5, 2017, from 1 p.m. to 4 p.m. (Room TBD).

Agenda

Monday, December 4, 2017 Through Tuesday, December 12, 2017

Council Plenary Session: The agenda for the Council's plenary session will include the following issues as well as an executive session. The Council may take appropriate action on any of the issues identified.

(1) Executive Director's Report

(2) Legislative Report

(3) NMFS Management Report (including year-end inseason management report, Final 2018 Observer Annual Deployment Plan, Draft EM Policy Directive (T))

(4) NOAA GC report (including conflict of interest report (T))

(5) NOAA Enforcement Report

(6) ADF&G Report

(7) USCG Report

(8) USFWS Report

(9) Protected Species Report (including bowhead whale entanglement review)

(10) IPHC Report (T)

(11) 2018 Charter Halibut Management Measures

(12) Charter Halibut Permits: Latent Capacity, RQE Ownership Caps

(13) Self-guided Halibut Rental Boats

(14) BSAI Groundfish Harvest Specifications—Final Specs

(15) GOA Groundfish Harvest Specifications—Final Specs

(16) Small Sideboards

(17) Bering Sea Cod Trawl CV Participation

(18) Western GOA Pcod A Season Halibut PSC Rates

(19) Western GOA Pollock C/D Season Timing Chinook PSC

(20) Western GOA Pollock Trip Limits

(21) Stranded Cod in GOA Trawl B Season

(22) Fixed Gear CV Rockfish Retention

(23) Chinook Salmon Excluder EFP Consultation

(24) Staff Tasking

The Advisory Panel will address most of the same agenda issues as the Council.

The SSC agenda will include the following issues:

(1) BSAI Groundfish Harvest Specifications—Final Specifications

(2) GOA Groundfish Harvest Specifications—Final Specifications

(3) Small Sideboards

(4) Chinook Salmon Excluder EFP

In addition to providing ongoing scientific advice for fishery management decisions, the SSC functions as the Council's primary peer review panel for scientific information as described by the Magnuson-Stevens Act section 302(g)(1)(e), and the National Standard 2 guidelines (78 FR 43066). The peer review process is also deemed to satisfy the requirements of the Information Quality Act, including the OMB Peer Review Bulletin guidelines.

The Agenda is subject to change, and the latest version will be posted at http://www.npfmc.org/.

Although other non-emergency issues not on the agenda may come before this group for discussion, those issues may not be the subject of formal action during these meetings. Actions will be restricted to those issues specifically listed in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to Shannon Gleason at (907) 271-2809 at least 7 working days prior to the meeting date.

Dated: November 14, 2017.
Tracey L. Thompson,
Acting Deputy Director, Office of Sustainable Fisheries, National Marine Fisheries Service.

[FR Doc. 2017-24962 Filed 11-16-17; 8:45 am]

BILLING CODE 3510-22-P